DEPARTMENT OF COMMERCE

National Oceanic and Atmospheric Administration

50 CFR Part 679

[Docket No. 200227-0066; RTID 0648-XA701]

Fisheries of the Exclusive Economic Zone Off Alaska; Reallocation of Pacific Cod in the Bering Sea and Aleutian Islands Management Area

AGENCY: National Marine Fisheries Service (NMFS), National Oceanic and Atmospheric Administration (NOAA), Commerce.

ACTION: Temporary rule; reallocation.

SUMMARY: NMFS is reallocating the projected unused amount of Pacific cod from vessels using jig gear and trawl catcher vessels (CVs) to CVs less than 60 feet (18.3 m) length overall (LOA) using hook-and-line or pot gear and American Fisheries Act (AFA) catcher/processors (CPs) in the Bering Sea and Aleutian Islands (BSAI) management area. This action is necessary to allow the 2020 total allowable catch (TAC) of Pacific cod to be harvested.

DATES: Effective December 14, 2020, through 2400 hours, Alaska local time (A.l.t.), December 31, 2020.

FOR FURTHER INFORMATION CONTACT: Steve Whitney, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2020 Pacific cod TAC specified for vessels using jig gear in the BSAI is 178 metric tons (mt), the 2020 Pacific cod TAC specified for trawl CVs in the BSAI is 30,707 mt, the 2020 Pacific cod TAC specified for CVs less than 60 feet (18.3 m) LOA using hook-and-line or pot gear in the BSAI is 4,807 mt, and the 2020 Pacific cod TAC specified for AFA CPs in the BSAI is 3,196 mt as established by the final 2020 and 2021 harvest specifications for groundfish in the BSAI (85 FR 13553, March 9, 2020) and reallocations (85 FR 4601, January 27, 2020 and 85 FR 49976, August 17, 2020).

The Administrator, Alaska Region, NMFS, (Regional Administrator) has determined that jig vessels will not be able to harvest 160 mt of the 2020 Pacific cod TAC allocated to those vessels under § 679.20(a)(7)(ii)(A)(1) and trawl CVs will not be able to harvest 1,014 mt of the 2020 Pacific cod TAC allocated to those vessels under § 679.20(a)(7)(ii)(A)(9).

Therefore, in accordance with § 679.20(a)(7)(iv)(C), NMFS apportions 160 mt of Pacific cod from the jig gear apportionment to the annual amount specified for catcher vessels less than 60 feet (18.3 m) LOA using hook-and-line or pot gear. Also, in accordance with § 679.20(a)(7)(iii)(B), NMFS reallocates 1,014 mt from trawl CVs to the annual amount specified for AFA CPs.

The harvest specifications for 2020 Pacific cod included in final 2020 and 2021 harvest specifications for groundfish in the BSAI (85 FR 13553, March 9, 2020) and reallocations (85 FR 4601, January 27, 2020 and 85 FR 49976, August 17, 2020) are revised as follows: 18 mt to vessels using jig gear, 29,693 mt to trawl CVs, 4,967 mt to catcher vessels less than 60 feet (18.3 m) LOA using hook-and-line or pot gear, and 4,210 mt to AFA CPs.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest. This requirement is impracticable and contrary to the public interest as it would prevent NMFS from responding to the most recent fisheries data in a timely fashion and would allow for harvests that exceed the originally specified apportionment of the Pacific cod TAC. NMFS was unable to publish a notice providing time for public comment because the most recent, relevant data only became available as of December 1, 2020.

Authority: 16 U.S.C. 1801 et seq.

Dated: December 10, 2020.
Jennifer M. Wallace,
Acting Director, Office of Sustainable Fisheries, National Marine Fisheries Service.

[FR Doc. 2020-27526 Filed 12-14-20; 8:45 am]

BILLING CODE 3510-22-P